DEPARTMENT OF LABOR

Employment and Training Administration

[TA-W-57,609]

Brunswick, Muskegon, MI; Notice of Termination of Investigation

Pursuant to Section 221 of the Trade Act of 1974, as amended, an investigation was initiated on July 22, 2005 in response to a petition filed by a state agent representative on behalf of workers at Brunswick, Muskegon, Michigan.

The petitioner has requested that the petition be withdrawn. Consequently, the investigation has been terminated.

Signed at Washington, DC, this 26th day of July, 2005.
Richard Church,
Certifying Officer, Division of Trade Adjustment Assistance.

[FR Doc. E5-4501 Filed 8-17-05; 8:45 am]

BILLING CODE 4510-30-P